DEPARTMENT OF ENERGY

Federal Energy Regulatory Commission

Supplemental Notice Requesting Comments

| Docket Nos.
Priority Rights to New Participant-Funded Transmission | AD11-11-000
Alta Wind I, LLC | EL10-62-000
Alta Wind II, LLC |
Alta Wind III, LLC |
Alta Wind IV, LLC |
Alta Wind V, LLC |
Alta Wind VI, LLC |
Alta Wind VII, LLC |
Alta Wind VIII, LLC |
Alta Windpower Development, LLC |
TGP Development Company, LLC |
Puget Sound Energy, Inc. | EL10-72-001
Terra-Gen Dixie Valley, LLC, TGP Dixie Development Company, LLC, and New York Canyon, LLC | EL10-29-002
Green Borders Geothermal, LLC v. Terra-Gen Dixie Valley, LLC | EL10-36-002
Terra-Gen Dixie Valley, LLC | ER11-2127-001
Northern Pass Transmission, LLC | ER11-2377-000
Cedar Creek Wind Energy, LLC | RC11-1-000
Milford Wind Corridor Phase I, LLC | RC11-2-000
SunZia Transmission, LLC | EL11-24-000
Hudson Transmission Partners, LLC | ER11-3017-000
Peetz Logan Interconnect, LLC | ER11-2970-000

On March 15, 2011, Federal Energy Regulatory Commission staff (Staff) held a technical conference to obtain further information to aid the Commission in considering issues related to the ownership of and priority access rights to new participant-funded transmission projects.

In particular, Staff sought to explore issues related to priority rights to use transmission infrastructure developed under various new business models in two specific contexts: independent and/or merchant transmission, and generator lead lines. In both contexts, participants were encouraged to identify and discuss the appropriate balance between the Commission's requirements for open access and the needs of project developers. Participants were also encouraged to propose and discuss specific regulatory alternatives that are consistent with the Commission's open access policies and its statutory responsibility to ensure that rates, terms, and conditions of service are just and reasonable and not unduly discriminatory or preferential.

Persons wishing to comment on these issues should submit written comments to the Commission no later than April 21, 2011.

Dated: March 18, 2011.
Nathaniel J. Davis, Sr.,
Deputy Secretary.

[FR Doc. 2011-7149 Filed 3-25-11; 8:45 am]

BILLING CODE 6717-01-P